DEPARTMENT OF TRANSPORTATION

Maritime Administration

[Docket No. MARAD-2025-0399]

Request for Comments on the Renewal of a Previously Approved Collection: Quarterly Readiness of Strategic Seaport Facilities Reporting

AGENCY: Maritime Administration, DOT.

ACTION: Notice.

SUMMARY: The Maritime Administration (MARAD) invites public comments on its intention to request Office of Management and Budget (OMB) approval to renew an information collection in accordance with the Paperwork Reduction Act of 1995. The proposed collection OMB 2133-0548 (Quarterly Readiness of Strategic Seaport Facilities Reporting) is used by both MARAD and Department of Defense (DoD) to evaluate commercial strategic seaport readiness to support military deployment and national emergencies. There are no changes since the last renewal. MARAD is required to publish this notice in the Federal Register to obtain comments from the public and affected agencies.

ADDRESSES: Written comments and recommendations for the proposed information collections should be sent within 30 days of publication of this notice to www.reginfo.gov/public/do/PRAMain. Find this information collection by selecting “Currently under 30-day Review—Open for Public Comments” or by using the search function.

FOR FURTHER INFORMATION CONTACT: Matthew Butram, 202-366-1976, Office of Sealift Support, Room W25-218, Mail Stop 1, Maritime Administration, U.S. Department of Transportation, 1200 New Jersey Ave. SE, Washington, DC 20590, Email: matthew.butram@dot.gov.

SUPPLEMENTARY INFORMATION:

Title: Quarterly Readiness of Strategic Seaport Facilities Reporting.

OMB Control Number: 2133-0548.

Type of Request: Extension without change of a currently approved collection.

Abstract: This collection of information supports MARAD's emergency planning and preparedness actions related to Commercial Strategic Seaport readiness pursuant to Executive Order 12656 and 49 CFR 1.81. In this regard, MARAD issues a Port Readiness Plan (PRP) to designated Strategic Commercial Seaports that identify specific facilities that DoD may need to support the deployment of United States Armed Forces, as well as national emergencies, or national defense needs. This collection of information on a quarterly basis is necessary to validate all PRP-identified facilities to DoD within the PRP-defined timeline.

Respondents: Commercial Strategic Seaports that were designated by the Commander of Military Surface Deployment and Distribution Command (SDDC) and were issued a PRP by MARAD.

Affected Public: Designated Commercial Strategic Seaports issued a PRP.

Estimated Number of Respondents: 17.

Estimated Number of Responses: 68.

Estimated Hours per Response: 1.

Annual Estimated Total Annual Burden Hours: 68.

Frequency of Response: Quarterly.

A 60-day Federal Register Notice soliciting comments on this information collection was published on May 13, 2025 (90 Federal Register (FR) 20342).

(Authority: The Paperwork Reduction Act of 1995; 44 U.S.C. Chapter 35, as amended; and 49 CFR 1.49.)

By Order of the Maritime Administration.
T. Mitchell Hudson, Jr.,
Secretary, Maritime Administration.

[FR Doc. 2025-15599 Filed 8-14-25; 8:45 am]

BILLING CODE 4910-81-P